NATIONAL SCIENCE FOUNDATION

Proposal Review Panel for Computing Communication Foundations (1192); Notice of Meeting

In accordance with the Federal Advisory Committee Act (Pub. L. 92-463, as amended), the National Science Foundation announces the following meeting:

Name: Kennedy Site Visit, Proposal Review Panel for Computing Communication Foundations (1192).

Date/Time: April 28-29, 2005; 8:30 a.m.-6 p.m.

Place: Houston, TX; Rice University Duncan Hall.

Type of Meeting: Partially open.

Contact Person: Michael Foster, National Science Foundation, 4201 Wilson Boulevard, Room 1115, Arlington, VA 22230. Telephone: (703) 292-8910.

Purpose of Meeting: To provide advice and recommendations concerning proposals submitted to NSF for financial support.

Agenda

Thursday, April 28

8:30 a.m. Open—VGrADS Project Overview

9:15 a.m. Open—The Virtual Grid Execution System (Part I)

10:30 a.m. Open—The Virtual Grid Execution System (Part II)

11:30 a.m.-6 p.m. Closed—Executive session; evaluation of performance, assessment

Friday, April 29

8:30 a.m.-6 p.m. Closed—Executive session; evaluation of performance, assessment

Reason for Closing: The proposals being reviewed include information of a proprietary or confidential nature, including technical information; financial data, such as salaries; and personal information concerning individuals associated with the proposals. These matters are exempt under 5 U.S.C. 552b(c), (4) and (6) of the Government in the Sunshine Act.

Dated: April 6, 2005.
Susanne Bolton,
Committee Management Officer.

[FR Doc. 05-7173 Filed 4-8-05; 8:45 am]

BILLING CODE 7555-01-M